COMMISSION ON CIVIL RIGHTS

Notice of Public Meeting of the Virginia Advisory Committee to the U.S. Commission on Civil Rights

AGENCY: U.S. Commission on Civil Rights.

ACTION: Notice of public meetings.

SUMMARY: Notice is hereby given, pursuant to the provisions of the rules and regulations of the U.S. Commission on Civil Rights (Commission) and the Federal Advisory Committee Act, that the Virginia Advisory Committee (Committee) to the U.S. Commission on Civil Rights will hold public meetings via Zoom. The purpose of these meetings is to review, discuss, revise, and vote, as needed, on matters related to the Committee's civil rights project on Police Oversight and Accountability in Virginia.

DATES:

Friday, April 28, 2023, from 1:00 p.m.-2:00 p.m. Eastern Time

Wednesday, May 31, 2023, from 3:00 p.m.-4:00 p.m. Eastern Time

Friday, June 16, 2023, from 11:00 a.m.-12:00 p.m. Eastern Time

ADDRESSES: The meetings will be held via Zoom.

April 28th Business Meeting:

—Registration Link (Audio/Visual): https://www.zoomgov.com/j/1600850868

—Join by Phone (Audio Only): 1-833-435-1820 USA Toll-Free; Meeting ID: 160 085 0868#

May 31st Business Meeting:

—Registration Link (Audio/Visual): https://www.zoomgov.com/j/1609753120

—Join by Phone (Audio Only): 1-833-435-1820 USA Toll-Free; Meeting ID: 160 975 3120#

June 16th Business Meeting:

—Registration Link (Audio/Visual): https://www.zoomgov.com/j/1616744701

—Join by Phone (Audio Only): 1-833-435-1820 USA Toll-Free; Meeting ID: 161 674 4701#

FOR FURTHER INFORMATION CONTACT: Victoria Moreno, Designated Federal Officer, at vmoreno@usccr.gov or 1-434-515-0204.

SUPPLEMENTARY INFORMATION: These committee meetings are available to the public through the registration link above. Any interested member of the public may listen to the meeting. An open comment period will be provided to allow members of the public to make a statement as time allows. Per the Federal Advisory Committee Act, public minutes of the meeting will include a list of persons who are present at the meeting. If joining via phone, callers can expect to incur regular charges for calls they initiate over wireless lines, according to their wireless plan. The Commission will not refund any incurred charges. Callers will incur no charge for calls they initiate over land-line connections to the toll-free telephone number. Closed captioning will be available for individuals who are deaf, hard of hearing, or who have certain cognitive or learning impairments. To request additional accommodations, please email svillanueva@usccr.gov at least 10 business days prior to the meeting.

Members of the public are entitled to submit written comments; the comments must be received in the regional office within 30 days following the meeting. Written comments may be emailed to Sarah Villanueva at svillanueva@usccr.gov. Persons who desire additional information may contact the Regional Programs Coordination Unit at 1-434-515-0204.

Records generated from these meetings may be inspected and reproduced at the Regional Programs Coordination Unit Office, as they become available, both before and after the meeting. Records of the meetings will be available via www.facadatabase.gov under the Commission on Civil Rights, Virginia Advisory Committee link. Persons interested in the work of this Committee are directed to the Commission's website, http://www.usccr.gov, or may contact the Regional Programs Coordination Unit at svillanueva@usccr.gov.

Agenda

I. Welcome & Roll Call

II. Discussion: Draft Report on Police Oversight and Accountability in Virginia

III. Vote (if applicable)

IV. Public Comment

V. Next Steps

VI. Adjournment

Exceptional Circumstance: Pursuant to 41 CFR 102-3.150, the notice for this meeting is given fewer than 15 calendar days prior to the meeting, as the Committee's project needs to reach completion before their term ends.

Dated: April 17, 2023.
David Mussatt,
Supervisory Chief, Regional Programs Unit.

[FR Doc. 2023-08340 Filed 4-19-23; 8:45 am]

BILLING CODE P